DEPARTMENT OF ENERGY

Federal Energy Regulatory Commission

Combined Notice of Filings #1

April 17, 2006.

Take notice that the Commission received the following electric rate filings.

Docket Numbers: ER03-1047-001.

Applicants: Mirant Las Vegas, LLC.

Description: Mirant's letter to the Commission concerning its compliance filing submitted July 9, 2003.

Filed Date: March 27, 2006.

Accession Number: 20060327-5032

Comment Date: 5 p.m. Eastern Time on Monday, April 24, 2006.

Docket Numbers: ER05-1497-002.

Applicants: Dearborn Industrial Generation, LLC.

Description: Dearborn Industrial Generation, LLC submits an Erratum to its February 21, 2006, Late Filed Compliance Filing.

Filed Date: April 7, 2006.

Accession Number: 20060411-0028.

Comment Date: 5 p.m. Eastern Time on Friday, April 21, 2006.

Docket Numbers: ER06-580-002.

Applicants: Midwest Independent Transmission System Operator, Inc.

Description: The Midwest Independent Transmission System Operator, Inc. submits an amended coversheet to its First Revised Network Integration Service Agreement filed February 22, 2006.

Filed Date: April 11, 2006.

Accession Number: 20060417-0182.

Comment Date: 5 p.m. Eastern Time on Monday, April 24, 2006.

Docket Numbers: ER06-650-001.

Applicants: PJM Interconnection, LLC.

Description: PJM Interconnection, LLC submits a substitute interconnection service agreement with Calvert Cliffs Nuclear Power Plant, Inc and Baltimore Gas and Electric Company.

Filed Date: April 11, 2006.

Accession Number: 20060414-0117.

Comment Date: 5 p.m. Eastern Time on Tuesday, May 2, 2006.

Docket Numbers: ER06-679-001.

Applicants: Louisville Gas & Electric Company.

Description: LG&E Energy submits a revised executed letter agreement with East Kentucky Power Cooperative which will be designated as Original Sheets 17 and 18 in 1st Revised Rate Schedule 25.

Filed Date: April 10, 2006.

Accession Number: 20060414-0120.

Comment Date: 5 p.m. Eastern Time on Monday, May 1, 2006.

Docket Numbers: ER06-746-001.

Applicants: Equilon Enterprises LLC.

Description: Equilon Enterprises, LLC dba Shell Oil Products U.S. submits an amendment to its March 16, 2006 filing, correcting typographical errors to its proposed tariff.

Filed Date: April 10, 2006.

Accession Number: 20060414-0116.

Comment Date: 5 p.m. Eastern Time on Monday, May 1, 2006.

Docket Numbers: ER06-747-001.

Applicants: Equilon Enterprises LLC.

Description: Equilon Enterprises, LLC dba Shell Oil Products U.S. submits an amendment to its March 16, 2006 filing, correcting typographical errors to its proposed tariff.

Filed Date: April 10, 2006.

Accession Number: 20060414-0114.

Comment Date: 5 p.m. Eastern Time on Monday, May 1, 2006.

Docket Numbers: ER06-748-001.

Applicants: Shell Chemical LP.

Description: Shell Chemical LP submits an amendment to its March 16, 2006 filing.

Filed Date: April 10, 2006.

Accession Number: 20060414-0122.

Comment Date: 5 p.m. Eastern Time on Monday, May 1, 2006.

Docket Numbers: ER06-763-001.

Applicants: Motiva Enterprises LLC.

Description: Motiva Enterprises, LLC submits an amendment to its March 16, 2006 proposed market-based rate tariff filing.

Filed Date: April 10, 2006.

Accession Number: 20060414-0115.

Comment Date: 5 p.m. Eastern Time on Monday, May 1, 2006.

Docket Numbers: ER06-770-001.

Applicants: PPM Energy, Inc.

Description: PPM Energy, Inc submits corrections to their proposed amended, respective, market-based rate schedules filed on March 20, 2006.

Filed Date: April 11, 2006.

Accession Number: 20060414-0118.

Comment Date: 5 p.m. Eastern Time on Friday, April 21, 2006.

Docket Numbers: ER06-841-000.

Applicants: Entergy Services Inc.

Description: Entergy Services Inc, agent and on behalf of the Entergy Operating Companies submits amendments to the Entergy System Agreement.

Filed Date: April 10, 2006.

Accession Number: 20060414-0314.

Comment Date: 5 p.m. Eastern Time on Monday, May 1, 2006.

Docket Numbers: ER06-842-000.

Applicants: Palomar Energy, LLC.

Description: Palomar Energy LLC submits a notice of termination of its FERC Electric Rate Schedule 1.

Filed Date: April 10, 2006.

Accession Number: 20060414-0308.

Comment Date: 5 p.m. Eastern Time on Monday, May 1, 2006.

Docket Numbers: ER06-844-000.

Applicants: LSF Limited.

Description: LSF Limited submits its Petition of Initial Rate Schedule, Waivers and Blanket Authority under ER06-844.

Filed Date: April 11, 2006.

Accession Number: 20060417-0186.

Comment Date: 5 p.m. Eastern Time on Tuesday, May 2, 2006.

Docket Numbers: ER06-845-000.

Applicants: Northwestern Wisconsin Electric Company.

Description: Northwestern Wisconsin Electric Co submits a proposed rate change to its original FERC Rate Schedule No. 2, effective May 1, 2006.

Filed Date: April 11, 2006.

Accession Number: 20060417-0187.

Comment Date: 5 p.m. Eastern Time on Tuesday, May 2, 2006.

Docket Numbers: ER06-846-000.

Applicants: Public Service Company of Colorado.

Description: Xcel Energy Services Inc on behalf of Public Service Co of Colorado submits an amended and restated version of its October 28, 1992 Contract for Transmission Service w/ Tri-State Generation and Transmission Association Inc, effective April 12, 2006.

Filed Date: April 11, 2006.

Accession Number: 20060417-0188.

Comment Date: 5 p.m. Eastern Time on Tuesday, May 2, 2006.

Docket Numbers: ER96-795-013.

Applicants: Gateway Energy Marketing.

Description: Gateway Energy Marketing submits its amended and updated market power analysis and revised tariff sheets pursuant to the Commission's May 31, 2005 order.

Filed Date: April 10, 2006.

Accession Number: 20060414-0306.

Comment Date: 5 p.m. Eastern Time on Monday, May 1, 2006.

Docket Numbers: ER98-4333-002.

Applicants: Primary Power Marketing, L.L.C.

Description: Primary Power Marketing LLC submits a revised updated power market analysis out-of time, pursuant to the Commission's May 31, 2005 order.

Filed Date: April 10, 2006.

Accession Number: 20060411-0147.

Comment Date: 5 p.m. Eastern Time on Monday, May 1, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-6052 Filed 4-21-06; 8:45 am]

BILLING CODE 6717-01-P